DEPARTMENT OF TRANSPORTATION

Federal Transit Administration

Safety Advisory 25-1 Reducing Rail Trespassing and Suicide Events

AGENCY: Federal Transit Administration (FTA), Department of Transportation (DOT).

ACTION: Notice of Safety Advisory.

SUMMARY: The Federal Transit Administration (FTA) is issuing Safety Advisory 25-1 to recommend State Safety Oversight Agencies (SSOAs) direct Rail Transit Agencies (RTAs) within their jurisdiction to use their Safety Management System (SMS) to mitigate risk related to rail trespassing and suicide events.

FOR FURTHER INFORMATION CONTACT: Ethan Novak, Safety Program Analyst, Office of Transit Safety and Oversight, at Ethan.Novak@dot.gov, phone: 202-366-1783.

SUPPLEMENTARY INFORMATION: FTA recommends that State Safety Oversight Agencies (SSOAs) direct Rail Transit Agencies (RTAs) within their jurisdiction to identify hazards related to rail trespassing and suicide events, perform safety risk assessments, identify safety risk mitigations as necessary to reduce safety risk associated with trespassing and suicide events, and utilize safety performance monitoring and measurement procedures to assess the effectiveness of mitigations. FTA recommends SSOAs obtain any documentation related to the recommended actions outlined above from their RTAs. FTA recommends that SSOAs that receive such documentation submit it to the State Safety Oversight Reporting (SSOR) system within 180 days from the issuance of this Safety Advisory.

The FTA's Safety Advisory 25-1, “Reducing Rail Trespassing and Suicide Events,” is available in its entirety on the agency's public website (https://www.transit.dot.gov/regulations-and-guidance/safety/fta-safety-advisories).

Authority: 49 U.S.C. 5329; 49 CFR 1.91 and 670.29.

Marcus J. Molinaro,
Administrator.

[FR Doc. 2025-21739 Filed 12-1-25; 8:45 am]

BILLING CODE 4910-57-P